DEPARTMENT OF AGRICULTURE

Animal and Plant Health Inspection Service

9 CFR Part 94

[Docket No. 01-026-1]

Change in Disease Status of Portugal Because of African Swine Fever

AGENCY: Animal and Plant Health Inspection Service, USDA.

ACTION: Proposed rule.

SUMMARY: We are proposing to remove Portugal from the list of regions where African swine fever exists. We are proposing this action because Portugal is now free of African swine fever. This action would relieve restrictions due to African swine fever on the importation of pork and pork products into the United States from Portugal. However, because Portugal is on the list of regions where hog cholera exists and the list of regions that are subject to certain restrictions because of their proximity to or trading relationships with rinderpest-or foot-and-mouth disease-affected countries, Portugal would continue to be subject to certain restrictions regarding the importation into the United States of pork and pork products.

DATES: We invite you to comment on this docket. We will consider all comments we receive that are postmarked, delivered, or e-mailed by February 8, 2002.

ADDRESSES: You may submit comments by postal mail/commercial delivery or by e-mail. If you use postal mail/commercial delivery, please send four copies of your comment (an original and three copies) to: Docket No. 01-026-1, Regulatory Analysis and Development, PPD, APHIS, Station 3C71, 4700 River Road Unit 118, Riverdale, MD 20737-1238. Please state that your comment refers to Docket No. 01-026-1. If you use e-mail, address your comment to regulations@aphis.usda.gov. Your comment must be contained in the body of your message; do not send attached files. Please include your name and address in your message and “Docket No. 01-026-1” on the subject line.

You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Dr. Gary Colgrove, Chief Staff Veterinarian, National Center for Import and Export, VS, APHIS, 4700 River Road Unit 38, Riverdale, MD 20737-1231; (301) 734-4356.

SUPPLEMENTARY INFORMATION:

Background

The regulations in 9 CFR part 94 (referred to below as the regulations) govern the importation of certain animals and animal products into the United States in order to prevent the introduction of various animal diseases, including rinderpest, foot-and-mouth disease (FMD), African swine fever (ASF), hog cholera, and swine vesicular disease. These are dangerous and destructive communicable diseases of ruminants and swine. Section 94.8 of the regulations lists regions of the world where ASF exists or is reasonably believed to exist. Section 94.8 also restricts the importation of pork and pork products into the United States from the listed regions.

On December 29, 1999, we published in the Federal Register an interim rule (64 FR 72912-72913, Docket No. 99-096-1) that added Portugal to the list in § 94.8 of regions where ASF exists because the presence of ASF was confirmed in that region on November 15, 1999. As a result of that action, the importation into the United States of any pork and pork products that left Portugal on or after November 5, 1999, the effective date of that interim rule, was restricted. We adopted the interim rule without change in a document published in the Federal Register on August 28, 2000 (65 FR 51997, Docket No. 99-096-2).

Portugal responded quickly to the presence of ASF, which was confined to four premises. Following depopulation of the affected herds, Portugal conducted extensive serological surveillance. This testing indicated that ASF had not spread beyond the affected premises. The Government of Portugal recently requested that APHIS recognize Portugal as a region considered free of ASF.

In response to that request, we reviewed the documentation submitted by the Government of Portugal in support of its request, and a team of APHIS officials performed a site visit to conduct an evaluation of Portugal's animal health program with regard to ASF. You may review the on-site evaluation on the Internet at http://www.aphis.usda.gov/vs/reg-request.html. The evaluation consisted of a review of Portugal's veterinary service infrastructure, laboratory and diagnostic procedures, vaccination practices, and administration of laws and regulations intended to prevent the introduction of communicable animal diseases into Portugal. After reviewing the documentation provided by Portugal and the data gathered during the site visit by APHIS officials, we have determined that Portugal qualifies to be recognized as free of ASF.

However, Portugal is still considered to be affected with hog cholera, also known as classical swine fever, so pork and pork products from Portugal offered for importation into the United States would remain subject to the restrictions in § 94.9 for hog cholera. Similarly, dry-cured pork products from Portugal would continue to be subject to the restrictions in § 94.17 due to hog cholera. Additionally, pork and pork products from Portugal would continue to be subject to the restrictions in § 94.11 because Portugal is one of the countries listed in § 94.11(a) that have been declared free of rinderpest and FMD, but from which the importation of meat and other animal products is restricted due to the nature of their trade with countries affected with rinderpest or FMD or because they have a land border with a country affected with rinderpest or FMD.

Executive Order 12866 and Regulatory Flexibility Act

This proposed rule has been reviewed under Executive Order 12866. For this action, the Office of Management and Budget has waived its review process required under Executive Order 12866.

We are proposing to remove Portugal from the list of regions where ASF exists. We are proposing this action because Portugal is now free of ASF. This action would relieve restrictions due to ASF on the importation of pork and pork products into the United States from Portugal. However, because Portugal is on the list of regions where hog cholera exists and the list of regions that are subject to certain restrictions because of their proximity to or trading relationships with rinderpest- or FMD-affected countries, Portugal would continue to be subject to certain restrictions regarding the importation into the United States of pork and pork products.

The following analysis addresses the economic effect of this rule on small entities, as required by the Regulatory Flexibility Act.

Entities in the United States likely to be affected by this proposed rule include those engaged in the production of swine and processed pork products. Since Portugal has never exported pork or pork products to the United States, we anticipate that this proposed rule would have no economic effect on U.S. swine importers, hog meat processors, hog producers, or any other entities, large or small. However, should Portugal commence the exportation of pork and pork products to the United States, restrictions on the importation of pork and pork products into the United States from Portugal would still be in place because Portugal is on the list of regions where hog cholera exists and the list of regions that are subject to certain restrictions because of their proximity to or trading relationships with rinderpest-or FMD-affected countries. Given those continuing restrictions, we believe any potential imports of processed pork and pork products from Portugal would be minimal. Likewise, because any potential increase in imports of processed pork and pork products from Portugal would be slight, the potential effect on U.S. swine producers and processors of pork is expected to be minimal.

Under these circumstances, the Administrator of the Animal and Plant Health Inspection Service has determined that this action would not have a significant economic impact on a substantial number of small entities.

Executive Order 12988

This proposed rule has been reviewed under Executive Order 12988, Civil Justice Reform. If this proposed rule is adopted: (1) All State and local laws and regulations that are inconsistent with this rule will be preempted; (2) no retroactive effect will be given to this rule; and (3) administrative proceedings will not be required before parties may file suit in court challenging this rule.

Paperwork Reduction Act

This proposed rule contains no information collection or recordkeeping requirements under the Paperwork Reduction Act of 1995 (44 U.S.C. 3501 et seq.).

List of Subjects in 9 CFR Part 94

Animal diseases, Imports, Livestock, Meat and meat products, Milk, Poultry and poultry products, Reporting and recordkeeping requirements.

Accordingly, we propose to amend 9 CFR part 94 as follows:

PART 94—RINDERPEST, FOOT-AND-MOUTH DISEASE, FOWL PEST (FOWL PLAGUE), EXOTIC NEWCASTLE DISEASE, AFRICAN SWINE FEVER, HOG CHOLERA, AND BOVINE SPONGIFORM ENCEPHALOPATHY: PROHIBITED AND RESTRICTED IMPORTATIONS

1. The authority citation for part 94 would continue to read as follows:

Authority: 7 U.S.C. 450, 7711, 7712, 7713, 7714, 7751, and 7754; 19 U.S.C. 1306; 21 U.S.C. 111, 114a, 134a, 134b, 134c, 134f, 136, and 136a; 31 U.S.C. 9701; 42 U.S.C. 4331 and 4332; 7 CFR 2.22, 2.80, and 371.4.

§ 94.8 [Amended]

2. In § 94.8, the introductory text of the section would be amended by removing the word “Portugal,”.

Done in Washington, DC, this 4th day of December, 2001.
W. Ron DeHaven,
Acting Administrator, Animal and Plant Health Inspection Service.

[FR Doc. 01-30463 Filed 12-7-01; 8:45 am]

BILLING CODE 3410-34-U